FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011409-008

Title: Transpacific Carrier Services, Inc. Agreement

Parties: Westbound Transpacific Stabilization Agreement; Transpacific Space Utilization Agreement; Asia North America Eastbound Rate Agreement; Transpacific Stabilization Agreement;American President Lines, Ltd.; APL Moller-Maersk Sealand; China Shipping Container Lines Co., Ltd.; CMA CGM, S.A.; COSCO Container Lines Company, Ltd.; Evergreen Marine Corporation; Hanjin Shipping Co., Ltd.;Hapag-Lloyd Container Linie GmbH; Hyundai Merchant Marine Co., Ltd.; Kawasaki Kisen Kaisha, Ltd.;Mitsui O.S.K. Lines, Ltd.; Nippon Yusen Kaisha, Ltd.; Orient Overseas Container Line, Inc.; P&O Nedlloyd B.V.; P&O Nedlloyd Limited; and Yangming Lines

Synopsis: The amendment adds China Shipping Container Lines Co., Ltd. as a party to the agreement.

By Order of the Federal Maritime Commission
Bryant L. VanBrakle,
Secretary.

[FR Doc. 03-4142 Filed 2-19-03; 8:45 am]

BILLING CODE 6730-01-P